NUCLEAR REGULATORY COMMISSION

[Docket No.: 70-7016; NRC-2009-0157]

Notice of Receipt and Availability of Environmental Report Supplement 2 for the Proposed GE-Hitachi Global Laser Enrichment Laser-Based Uranium Enrichment Facility

On January 13, 2009, GE-Hitachi Global Laser Enrichment, LLC (GLE) was granted an exemption to file its environmental report in advance of its license application. GLE submitted its Environmental Report (ER) on January 30, 2009 (ML090910573), that proposes the construction, operation, and decommissioning of a laser-based uranium enrichment facility. The proposed facility would be located approximately six miles north of the City of Wilmington in New Hanover County, North Carolina.

The U.S. Nuclear Regulatory Commission (NRC or the Commission) published a Notice of Intent to Prepare an Environmental Impact Statement (EIS) on the proposed action and the opportunity for public comment on the scope of issues to be considered in the EIS (74 FR 16237) (April 9, 2009). The comment period was extended to allow members of the public to review the publicly available portions of the license application (July 24, 2009), (74 FR 36781). The license application was submitted on June 26, 2009, (ML091871003).

On May 8, 2009, the NRC granted an exemption to authorize GLE to conduct site preparation and pre-construction activities on the Wilmington site. GLE submitted Supplement 1 to its ER on July 13, 2009, GLE Environmental Report Supplement 1—Early Construction (ML092100577). Supplement 1 distinguishes between the environmental impacts of pre-construction activities covered by the exemption and NRC authorized construction activities which will not be undertaken unless a license is granted. On November 13, 2009, GLE submitted Supplement 2 to its ER, GLE Environmental Report Supplement 2—Revised Roadway and Entrance (ML093240135). Supplement 2 provides information describing the environmental impacts associated with revising the location of the entrance and roadway into the Wilmington site.

On January 13, 2010, the NRC issued an order that announced the receipt of an application from GLE for a license to possess and use source, byproduct, and special nuclear material and to enrich natural uranium to a maximum of 8 percent U-235 by a laser-based enrichment process. This order also included the Notice of Consideration of Issuance of License; Notice of Hearing and Commission Order; and Order Imposing Procedures for Access to Sensitive Unclassified Non-Safeguards Information and Safeguards Information for Contention Preparation (75 FR 1819) (January 13, 2010).

FOR FURTHER INFORMATION CONTACT: For general or technical information associated with the licensing review of the GLE application, please contact Mr. Timothy Johnson at (301) 492-3121 or Timothy.Johnson@nrc.gov. For general information about the environmental review process, please contact Ms. Jennifer A. Davis at (301) 415-3835 or Jennifer.Davis@nrc.gov.

Copies of GLE's application, safety analysis report, ER, and supplements to its ER (except for portions subject to withholding from public inspection in accordance with 10 CFR 2.390, Availability of Public Records) are available to the public at the Commission's Public Document Room (PDR), located at One White Flint North, 11555 Rockville Pike (first floor), Rockville, Maryland, 20852. These documents are also available for review and copying using any of the following methods: (1) Enter the NRC's GE Laser Enrichment Facility Licensing Web site at http://www.nrc.gov/materials/fuel-cycle-fac/laser.html#2a; (2) enter the NRC's Agencywide Documents Access and Management System (ADAMS) at http://www.nrc.gov/reading-rm/adams.html, where the accession numbers for GLE's license application (ML091871003), ER (ML090910573), Supplement 1 to the ER (ML092100577), and Supplement 2 to the ER (ML093240135); (3) contact the NRC's PDR reference staff at 1-800-397-4209, faxing a request to 301-415-3548, or by e-mail to pdr@nrc.gov. Hard copies of the documents are available from the PDR for a fee.

Dated at Rockville, Maryland, this 22nd day of February 2010.
For the Nuclear Regulatory Commission.
Patrice M. Bubar,
Deputy Director, Environmental Protection and Performance Assessment Directorate, Division of Waste Management and Environmental Protection, Office of Federal and State Materials, and Environmental Management Programs.

[FR Doc. 2010-4277 Filed 3-1-10; 8:45 am]

BILLING CODE 7590-01-P